DEPARTMENT OF HOUSING AND URBAN DEVELOPMENT

24 CFR Part 1000

[Docket No. FR-4676-N-13]

Native American Housing Assistance and Self-Determination Negotiated Rulemaking Committee

AGENCY: Office of the Assistant Secretary for Public and Indian Housing, HUD.

ACTION: Notice of Negotiated Rulemaking Committee Meeting.

SUMMARY: This document announces a one-day session of the Native American Housing Assistance and Self-Determination Negotiated Rulemaking Committee (Committee). The Committee has concluded its negotiations regarding the development of a proposed rule that will change the regulations for the Indian Housing Block Grant (IHBG) program allocation formula, and other regulatory issues that arise out of the allocation or reallocation of IHBG funds. Subsequent to the conclusion of the negotiations, two workgroups were established to draft the regulatory text and preamble. The Committee will be convening for a one-day session to review the draft language developed by the workgroups and to pose questions to the workgroup members regarding the draft rule.

DATES: The session will be held on Tuesday, May 18, 2004. The session will begin at approximately 8:30 a.m., and is scheduled to adjourn at approximately 6 p.m.

ADDRESSES: The one-day session will take place at the Westin Tabor Center, 1672 Lawrence Street, Denver, Colorado 80202; telephone: (303) 572-9100 (this is not a toll-free number).

FOR FURTHER INFORMATION CONTACT: Rodger J. Boyd, Deputy Assistant Secretary for Native American Programs, Room 4126, Office of Public and Indian Housing, Department of Housing and Urban Development, 451 Seventh Street, SW., Washington, DC 20410-5000, telephone, (202) 401-7914 (this is not a toll-free number). Hearing or speech-impaired individuals may access this number via TTY by calling the toll-free Federal Information Relay Service at 1-800-877-8339.

SUPPLEMENTARY INFORMATION:

I. Background

HUD established the Native American Housing Assistance and Self-Determination Negotiated Rulemaking Committee (Committee) for the purposes of discussing and negotiating a proposed rule that would change the regulations for the Indian Housing Block Grant (IHBG) program allocation formula, and other IHBG program regulations that arise out of the allocation or reallocation of IHBG funds.

The IHBG program was established under the Native American Housing Assistance and Self-Determination Act of 1996 (25 U.S.C. 4101 et seq.) (NAHASDA). NAHASDA reorganized housing assistance to Native Americans by eliminating and consolidating a number of HUD assistance programs in a single block grant program. In addition, NAHASDA provides federal assistance for Indian tribes in a manner that recognizes the right of Indian self-determination and tribal self-government. Following the procedures of the Negotiated Rulemaking Act of 1990 (5 U.S.C. 561-570), HUD and its tribal partners negotiated the March 12, 1998 (63 FR 12349) final rule, which created a new 24 CFR part 1000 containing the IHBG program regulations.

The first meeting of the Committee took place in April 2003 and the Committee continued to meet thereafter on approximately a monthly basis. The Committee met a total of seven times. Subsequent to the conclusion of the negotiations, two workgroups were established. One workgroup was assigned the task of reviewing the approved regulatory language for content, format, style, and consistent use of terminology. The second workgroup was charged with developing the preamble to this proposed rule. The membership of both workgroups consisted of HUD and tribal representatives.

The Committee will be convening for a one-day session to review the draft regulatory text and preamble developed by the two workgroups. This one-day session will provide the members of the Committee with the opportunity to review the draft language and to pose questions to the workgroup members regarding the draft rule. The session will take place as described in the DATES and ADDRESSES section of this document.

Public attendance may be limited to the space available. Members of the public may be allowed to make statements during the meeting, to the extent time permits, and file written statements with the Committee for its consideration. Written statements should be submitted to the address listed in the FOR FURTHER INFORMATION CONTACT section of this document.

Dated: April 29, 2004.
Rodger J. Boyd,
Deputy Assistant Secretary for Native American Programs.

[FR Doc. 04-10275 Filed 5-5-04; 8:45 am]

BILLING CODE 4210-33-P